DEPARTMENT OF THE INTERIOR

Office of Acquisition and Property Management; Agency Information Collection Activities: Submitted for Office of Management and Budget (OMB) Review; Comment Request

AGENCY: Office of Acquisition and Property Management (PAM), Office of the Secretary, Interior.

ACTION: Notice of renewal of the OMB approval of information collection for Private Rental Survey (OMB Control Number 1084-0033) and request for comment.

SUMMARY: To comply with the Paperwork Reduction Act of 1995 (PRA), we are submitting to OMB for review and approval an information collection request (ICR), titled “Private Rental Survey.” We are also soliciting comments from the public on this ICR.

DATES: Submit written comments by March 5, 2004.

ADDRESSES: You may direct comments to the Desk Officer for the Department of the Interior, OMB-OIRA, and to submit them via e-mail to OIRA_DOCKET@omb.eop.gov or via facsimile to (202) 395-6566. Mail or hand carry a copy of your comments to the Department of the Interior; Office of Acquisition and Property Management; Attention: Linda Tribby; Mail Stop 5512; 1849 C Street, NW., Washington, DC 20240. Comments may also be submitted electronically to linda_tribby@ios.doi.gov. Our practice is to make comments, including names and home addresses of respondents, available for public review during regular business hours. Individual respondents may request that we withhold their home address from the record, which we will honor to the extent allowable by law. There may be circumstances in which we would withhold from the record a respondent's identify, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Linda Tribby, Departmental Quarters Program Manager, telephone (202) 219-0728.

SUPPLEMENTARY INFORMATION: Title: Private Rental Survey.

OMB Control Number: 1084-0033.

Bureau Form Number: OS-2000 and OS-2001.

Abstract: Public Law 88-459 authorizes Federal agencies to provide housing for Government employees under specified circumstances. In compliance with OMB Circular A-45 (Revised), Rental and Construction of Government Quarters, a review of private rental market housing rates is required at least once every 5 years to ensure that the rental, utility charges, and charges for related services to occupants of Government Furnished Quarters (GFQ) are comparable to corresponding charges in the private sector. To avoid unnecessary duplication and inconsistent rental rates, PAM conducts housing surveys in support of quarters management programs for the Departments of the Interior (DOI), Agriculture, Commerce, Defense, Justice, Transportation, Treasury, Health and Human Services, and Veterans Affairs. This collection of information provides data that helps DOI as well as other Federal agencies to manage GFQ in compliance with the requirements of OMB Circular A-45 (Revised). If the collection activity were not performed, there would be no basis for determining open market rental costs for GFQ.

On November 21, 2003, we published a Federal Register notice (volume 68, Number 225, page 65726-65727) with the required 60-day comment period announcing that we would submit this collection of information to OMB for approval. We received no comments in response to the notice.

Frequency of Collection: We survey each of 15 regions every fourth year, surveying three to four regions each year.

Description of Respondents: Individual property owners and small businesses or organizations (real estate managers, appraisers, or property managers).

Estimated Annual Responses: 3,872.

Estimated Annual Reporting and Recordkeeping “Hour” Burden: 767 hours (refer to burden chart). There are no recordkeeping requirements.

Response Burden Chart
Form No. | Number of respondents | Number of responses per respondent | Total annual per responses | Hours per response (minutes) | Burden hours
OS-2000 | 3,672 | 1 | 3,672 | 12 | 734
OS-2001 | 200 | 1 | 200 | 10 | 33
Total | 3,872 |  | 3,872 |  | 767

Estimated Annual Reporting and Recordkeeping “Non-Hour Cost” Burden: None.

Comments: The PRA (44 U.S.C. 3501, et seq.) provides that an agency may not conduct or sponsor, and a person is not required to respond to, a collection of information unless it displays a currently valid OMB control number. Section 3506(c)(2)(A) of the PRA requires each agency “* * * to provide notice * * * and otherwise consult with members of the public and affected agencies concerning each proposed collection of information * * *” Agencies must specifically solicit comments to:

(a) Evaluate whether the proposed collection of information is necessary for the agency to perform its duties, including whether the information is useful;

(b) Evaluate the accuracy of the agency's estimate of the burden of the proposed collection of information;

(c) Enhance the quality, usefulness, and clarity of the information to be collected; and,

(d) Minimize the burden on the respondents, including the use of automated collection techniques or other forms of information technology.

If you with to comment in response to this notice, send your comments directly to the office listed under the ADDRESSES section of this notice. The OMB has up to 60 days to approve or disapprove the information collection but may respond after 30 days. Therefore, to ensure maximum consideration, OMB should receive public comments by March 5, 2004.

PAM Information Collection Clearance Officer: Debra E. Sonderman, (202) 208-6352.

Dated: January 29, 2004.
Debra E. Sonderman,
Director, Office of Acquisition and Property Management.

[FR Doc. 04-2262 Filed 2-3-04; 8:45 am]

BILLING CODE 4310-RF-P